DEPARTMENT OF JUSTICE

Notice of Lodging of Consent Decree Under the Clean Air Act, Comprehensive Environmental Response, Compensation, and Liability Act, Emergency Planning and Community Right-To-Know Act, and the Federal Water Pollution Control Act

In accordance with Departmental policy, 28 CFR 50.7, notice is hereby given that a proposed consent decree in the case of United States v. BHP Petroleum Americas Refining, Inc., now known as Tesoro Hawaii Corporation, Civil Action No. 00-00264 DAE (D. Hawaii), was lodged with the United States District Court for the District of Hawaii on April 10, 2000.

The proposed consent decree resolves claims that the United States asserted against Tesoro Hawaii Corporation (Tesoro) in a civil complaint filed concurrently with the lodging of the consent decree. The complaint alleges that Tesoro failed to comply with New Source Performance Standards under the Clean Air Act, including requirements to: provide notice of startup; maintain facilities consistent with good air quality practice; meet limits on hydrogen sulfide in fuel gas; comply with a leak detection and repair program for equipment in volatile organic compound service; and comply with work practice standards for the refinery's wastewater system. In addition, the complaint alleges that Tesoro failed to comply with National Emission Standards for Hazardous Air Pollutants under the Clean Air Act, including requirements to provide notice of construction startup and to comply with a leak detection and repair program for benzene sources. The complaint also alleges that Tesoro failed on several days to properly notify the National Response Center, the State Emergency Response Commission, and the Local Emergency Planning Committee of the releases of hazardous substances from the refinery as required by section 103 of the Comprehensive Environmental Response, Compensation, and Liability Act and section 304 of the Emergency Planning and Community Right-to-Know Act. Finally, the complaint alleges that Tesoro failed to prepare and implement a Spill Prevention Control and Countermeasure Plan and failed to revise and implement a Facility Response Plan, as required by regulations issued pursuant to section 311 of the Federal Water Pollution Control Act.

The proposed consent decree requires defendant to pay a civil penalty of $681,780. In addition, defendant is required to modify the air blower and burner systems at the refinery's sulfur recovery units to avoid unplanned shutdowns of the units, which leads to excess sulfur dioxide air emissions from the refinery. In addition, Tesoro is required to add capacity to its containment areas and to place new coatings on its berms and containment floors to contain spilled oil and to prevent an oil spill to waters of the United States. Tesoro also agreed to undertake a supplemental environmental project to provide equipment worth $50,000 to the City and County of Honolulu for management of inventory data and emergency planning.

The Department of Justice will accept comments relating to this consent decree for a period of thirty (30) days from the date of this publication. Address your comments to the Assistant Attorney General for the Environment and Natural Resources Division, Department of Justice, Washington, DC 20530, and send a copy to the Environmental Enforcement Section, Attn: Robert Mullaney, U.S. Department of Justice, 301 Howard Street, Suite 870, San Francisco, CA 94105. Your comments should refer to United States v. BHP Petroleum Americas Refining, Inc., now known as Tesoro Hawaii Corporation, Civil Action No. 00-00264 DAE (D. Hawaii), and DOJ No. 90-5-2-1-2124.

You may examine the proposed consent decree at the office of the United States Attorney, District of Hawaii, Room 6100, PJKK Federal Building, 300 Ala Moana Boulevard, Honolulu, Hawaii 96850. You may also obtain a copy of the consent decree by mail from the Consent Decree Library, P.O. Box 7611, Washington, DC 20044. Your request for a copy of the consent decree should refer to United States v. BHP Petroleum Americas Refining, Inc., now known as Tesoro Hawaii Corporation, Civil Action No. 00-00264 DAE (D. Hawaii), and DOJ No. 90-5-2-1-2124, and must include a check for $14.00 (25 cents per page reproduction cost) payable to the “Consent Decree Library.”

Joel Gross,
Chief, Environmental Enforcement Section, Environment and Natural Resources Division.

[FR Doc. 00-10229 Filed 4-24-00; 8:45 am]

BILLING CODE 4410-15-M